DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Substance Abuse Prevention and Treatment (SAPT) Block Grant Uniform Application Guidance and Instructions FY 2008-2010 (OMB No. 0930-0080)—Revision

Sections 1921 through 1935 of the Public Health Service Act (U.S.C. 300x-21 to 300x-35) provide for annual allotments to assist States to plan, carry out and evaluate activities to prevent and treat substance abuse and for related activities. Under the provisions of the law, States may receive allotments only after an application is submitted and approved by the Secretary, HHS. For the Federal fiscal year 2008-2010 SAPT Block Grant application cycles, the Substance Abuse and Mental Health Services Administration (SAMHSA) will provide States with revised application guidance and instructions to implement changes made in accordance with the recommendations of the Office of Management and Budget's (OMB) Program Assessment Rating Tool (PART) analysis. In addition, SAMHSA has incorporated recommendations from the National Association of State Alcohol and Drug Abuse Directors and their member States in the revisions and clarification of data reporting requirements and instructions. Revisions to the previously-approved application resulting from such stakeholder input reflect the following changes: (1) In Section I, Form 2, “Table of Contents,” was revised to appropriately enumerate the specific items within each section; (2) In Section II, the Narrative description of certain maintenance of effort and expenditure base calculations was simplified to require submission of such information only if it represented a revision from previous years' submissions. This section was also moved to its more appropriate place in the application immediately preceding reporting on maintenance of efforts; (3) In Section II, Form 4, “Substance Abuse State Agency Spending Report,” was amended to use consistent language for services expenditure reporting and planning across Forms 4, 6, and 11. On Form 4 and Form 11, Row 1, the activity to be reported on is entitled: SAPT Block Grant funds for Substance Abuse Prevention (other than primary prevention) and Treatment Services to be consistent with the terminology used in Form 6, Column 5; (4) In Section II, Form 6, Entity Inventory, instructions were clarified to communicate that information on all substance abuse prevention and treatment service providers funded through the Single State Agency (SSA) was sought; (5) In section II, Form 7A, “Treatment Utilization Matrix,” instructions were clarified to communicate that information on persons admitted and served within the specific reporting period was sought to enable the SAPT Block Grant Program to address the recommendations of the FY 2003 OMB PART analysis; (6) In Section II, Form 7B, “Number Of Persons Served (Unduplicated Count) For Alcohol And Other Drug Use In State Funded Services,” instructions were clarified in a similar manner as Form 7a and a separate data cell was added to accommodate States' desires to report on clients admitted in a prior reporting period but also continuing to be served within the current reporting period; (7) In Section II, Table I (Maintenance), “Single State Agency (SSA) Expenditures for Substance Abuse” was amended to reflect the appropriate State fiscal year and the corresponding instructions were amended; (8) In Section II, Table II (Maintenance), “Statewide Non-Federal Expenditures for Tuberculosis Services to Substance Abusers in Treatment,” was amended to reflect the appropriate State fiscal year and the corresponding instructions were amended; (9) In Section II, Table III (Maintenance), “Statewide Non-Federal Expenditures for HIV Early Intervention Services to Substance Abusers in Treatment,” was amended to allow States to enter the appropriate State fiscal year and the corresponding instructions were amended; (10) In Section II, Table IV (Maintenance), “SSA Expenditures for Women's Services,” was amended to reflect the appropriate fiscal year and the corresponding instructions were amended; (11) In Section III, Form 11, “Intended Use Plan,” was amended to use consistent language for services expenditure reporting and planning; (12) In Section IV, subpart IV-A, “Voluntary Treatment Performance Measures,” the general instructions were amended to implement mandatory reporting on performance measure forms T1-T7 and a narrative requirement is proposed to collect information on States internal practices to use performance measure data to manage their systems; (13) In Section IV-A, “Treatment Performance Measures” Forms T1-T7 data specifications replaced State detail sheet narrative requirements for forms T1-T7 to reduce the burden of reporting and improve the uniformity of data quality information being collected; (14) In Section IV-A, “Voluntary Treatment Performance Measures,” T6 on infectious disease control efforts was deleted because it was determined to be duplicative of information requirements in Section II of the application; (15) In Section IV, subpart IV-B, Voluntary Prevention Performance Measures,” Forms P5 and P6 were removed, P1-P15 were substituted for the previous Forms P1-P4 and the instructions were amended to address pre-population of prevention performance data.

The total annual reporting burden estimate is shown below:

| Number of respondents | Responses per respondent | Number of hours per response | Total hours
Sections I-III—States and Territories | 60 | 1 | 470.00 | 28,200
Section IV-A | 60 | 1 | 40.00 | 2,400
Section IV-B | 60 | 1 | 42.75 | 2,565
Total | 60 |  |  | 33,165

Send comments to Summer King, SAMHSA Reports Clearance Officer, Room 7-1044, 1 Choke Cherry Road, Rockville, MD 20857. Written comments should be received within 60 days of this notice.

Dated: January 19, 2007.
Elaine Parry,
Acting Director, Office of Program Services.

[FR Doc. E7-1090 Filed 1-24-07; 8:45 am]

BILLING CODE 4162-20-P